DEPARTMENT OF THE INTERIOR

National Park Service

[2253-665]

Notice of Intent To Repatriate a Cultural Item: State Historical Society of Wisconsin, Madison, WI

AGENCY: National Park Service, Interior.

ACTION: Notice.

SUMMARY: The State Historical Society of Wisconsin, in consultation with the appropriate Indian Tribe, has determined a cultural item meets the definitions of sacred object and object of cultural patrimony and repatriation to the Indian Tribe stated below may occur if no additional claimants come forward. Representatives of any Indian Tribe that believes itself to be culturally affiliated with the cultural item may contact the State Historical Society of Wisconsin.

DATES: Representatives of any Indian Tribe that believes it has a cultural affiliation with the cultural item should contact the State Historical Society of Wisconsin at the address below by October 19, 2011.

ADDRESSES: Jennifer Kolb, Director, Wisconsin Historical Museum, 30 North Carroll St., Madison, WI 53703, telephone (608) 261-2461.

SUPPLEMENTARY INFORMATION: Notice is here given in accordance with the Native American Graves Protection and Repatriation Act (NAGPRA), 25 U.S.C. 3005, of the intent to repatriate a cultural item in the possession of the State Historical Society of Wisconsin (also known as the Wisconsin Historical Society), Madison, WI, that meets the definitions of sacred object and object of cultural patrimony under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Item

The object to be repatriated is the Decorah war bundle. The contents are comprised of an oil cloth bag, three cane flutes, two cane sticks, one stick of wood, one drumstick, one bag of arborvitae leaves, three animal tails, one skin bag, three bird bodies, one bird head, and two bird wings. According to the Wisconsin Historical Museum accession ledger the object is a war bundle of the Winnebago Wolf Clan. This war bundle was one of several objects purchased from Paul Radin for $80.00. It was obtained by Paul Radin from the family of Ho-Chunk Chief Spoon Decorah (also known as Dekorah, DeCarrie, Decora, DeKaury) at Black River Falls, WI, in October 1913.

According to Dr. Paul Radin, author of The Winnebago Tribe, war bundles were used in what is often called the Wagigō, Winter Feast, or War-bundle Feast, which is one of the principal ceremonies of the Ho-Chunk. The Decorah war bundle is affiliated with the Ho-Chunk people, who are now the Ho-Chunk Nation of Wisconsin and the Winnebago Tribe of Nebraska. According to the Ho-Chunk Nation, “Many of the clan bundles were divided when Ho-Chunk members of the different families chose to return to Wisconsin and other members chose to stay in Nebraska.”

During consultation, the Traditional Court of the Ho-Chunk Nation identified Mr. Cleland Goodbear, a member of the Ho-Chunk Nation of Wisconsin, as a lineal descendant of Chief Spoon Decorah, and present clan leader of the Decorah family. The Traditional Court further determined that the Decorah war bundle should be reunited with another bundle that Mr. Goodbear has in his possession.

Although the Decorah war bundle was requested for repatriation by the Ho-Chunk Nation of Wisconsin under the category “object of cultural patrimony,” officials of the State Historical Society of Wisconsin have determined that the Decorah war bundle is also a specific ceremonial object needed by Ho-Chunk religious leaders for the practice of traditional Native American religion by their present-day adherents.

Determinations Made by the State Historical Society of Wisconsin, Madison, WI

Officials of the State Historical Society of Wisconsin have determined that:

• Pursuant to 25 U.S.C. 3001(3)(C), the one cultural item described above is a specific ceremonial object needed by Native American religious leaders for the practice of traditional Native American religion by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object/object of cultural patrimony and the Ho-Chunk Nation of Wisconsin and the Winnebago Tribe of Nebraska.

Additional Requestors and Disposition

Representatives of any other Indian Tribe that believes itself to be culturally affiliated with the sacred object/object of cultural patrimony should contact Jennifer Kolb, Director, Wisconsin Historical Museum, 30 North Carroll St., Madison, WI 53703, telephone (608) 261-2461, before October 19, 2011. Repatriation of the sacred object/object of cultural patrimony to the Ho-Chunk Nation of Wisconsin may proceed after that date if no additional claimants come forward.

The State Historical Society of Wisconsin is responsible for notifying the Ho-Chunk Nation of Wisconsin and Winnebago Tribe of Nebraska that this notice has been published.

Dated: September 14, 2011.
Sherry Hutt,
Manager, National NAGPRA Program.

[FR Doc. 2011-23977 Filed 9-16-11; 8:45 am]

BILLING CODE 4312-50-P